DEPARTMENT OF HEALTH AND HUMAN SERVICES

Centers for Disease Control and Prevention

[30Day-12-11KA]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC or by fax to (202) 395-5806. Written comments should be received within 30 days of this notice.

Proposed Project

Use of Evidence-Based Practices for Comprehensive Cancer Control—New—National Center on Chronic Disease Prevention and Health Promotion (NCCDPHP), Centers for Disease Control and Prevention (CDC).

Background and Brief Description

There have been increasing calls in the fields of public health generally and cancer control specifically for the dissemination, adoption, and implementation of evidence-based practices (EBPs). EBPs are public health practices (interventions, programs, strategies, policies, procedures, processes, and/or activities) that have been tested or evaluated and shown to be effective. However, while the development, review, and compilation of EBPs has steadily increased over time, there is concern that the adoption and implementation of those practices, including among cancer control planners and practitioners, has not kept pace. Given the gap between the development of EBPs and their use, public health and cancer control organizations need to place greater emphasis on the promotion and dissemination of these practices among those who can use them to improve population health. While efforts to promote cancer control EBPs have increased, questions remain whether these efforts will result in widespread adoption and implementation of EBPs in the context of comprehensive cancer control (CCC) in the states, Tribes, and U.S. Associated Pacific Island Jurisdictions and territories. National Comprehensive Cancer Control Program (NCCCP) grantees may face a number of challenges to incorporating EBPs into CCC efforts in their jurisdictions. In order to address these barriers effectively and better promote the use of EBPs for cancer control, CDC would like to understand (1) how evidence-based approaches are currently being used to develop CCC plans; (2) how CCC programs identify EBPs; (3) what EBPs have been adopted by CCC programs; and (4) what challenges and unintended consequences have been encountered in their implementation.

The purpose of the proposed project is to examine CCC planners' use of scientific and practice-based information to inform development of CCC plans and to select evidence-based interventions. CDC will sponsor two surveys among 66 key CCC stakeholders in the NCCCP-funded states, Tribes, and U.S. Associated Pacific Island Jurisdictions and territories. The first will be a survey with the 66 Directors of the NCCCP-funded programs. The second will be a Web-based survey of key program partners/collaborators identified by the Program Directors (on average, two partners per Director, or 132 partners) as instrumental to the selection and implementation of cancer control EBPs. The surveys will identify technical assistance needs of the programs related to selection and implementation of EBPs and will contribute to CDC's efforts to build the capacities of states, Tribes, and Pacific Island Jurisdictions and territories toward more effective efforts in cancer prevention and control. In addition, the results may lead to new insights and questions that can be addressed in future studies.

There are no costs to respondents other than their time. OMB approval is requested for one year. The total estimated burden hours are 138.

Estimated Annualized Burden Hours
Type of respondents | Form name | Number of respondents | Number of responses per respondent | Average burden per response (in hr)
NCCCP Directors | Survey Scheduling Script | 66 | 1 | 15/60
| Program Directors Web Survey Questionnaire | 66 | 1 | 30/60
| Program Directors Telephone Interview Guide and Script | 66 | 1 | 20/60
NCCCP Partners | Program Partners Web Survey Questionnaire | 132 | 1 | 30/60

Dated: October 28, 2011.
Daniel Holcomb,
Reports Clearance Officer, Centers for Disease Control and Prevention.

[FR Doc. 2011-28581 Filed 11-3-11; 8:45 am]

BILLING CODE 4163-18-P